DEPARTMENT OF AGRICULTURE

Forest Service

Snohomish County Resource Advisory Committee (RAC)

AGENCY: Forest Service, USDA.

ACTION: Notice of meetings.

SUMMARY: the Snohomish County Resource Advisory Committee (RAC) will be meeting on Wednesday, May 1, 2002, and Wednesday, May 15, 2002, at the Snohomish County Administration Building, Willis Trucker Conference room (3rd floor), 3000 Rockefeller Ave. in Everett, WA 98201.

The May 1 meeting will begin at 9:30 a.m., the May 15 meeting will begin at 9 a.m., and both meetings will continue until about 4 p.m. The agenda item to be covered at both meetings is the review and selection of Title II projects for FY 2003.

All Snohomish County Resource Advisory Committee meetings are open to the public. Interested citizens are encouraged to attend.

the Snohomish County Resource Advisory Committee advises Snohomish County on projects, reviews project proposals, and makes recommendations to the Forest Supervisor for projects to be funded by Title II dollars. The Snohomish County Resource Advisory Committee was established to carry out the requirements of the Secure Rural Schools and Community Self-Determination Act of 2000.

FOR FURTHER INFORMATION CONTACT: Direct questions regarding this meeting to Barbara Busse, Designated Federal Official, USDA Forest Service, Mt. Baker-Snoqualmie National Forest, 74920 NE. Stevens Pass Hwy, PO Box 305, Skykomish, WA. 98288 (phone: 360-677-2414) or Terry Skorheim, District Ranger, USDA Forest Service, Mt. Baker-Snoqualmie National Forest, 1405 Emens St., Darrington, WA 98241 (phone: 360-436-1155).

Dated: April 2, 2002.
Barbara Busse,
Designated Federal Official.

[FR Doc. 02-8636 Filed 4-9-02; 8:45 am]

BILLING CODE 3410-11-M